DEPARTMENT OF TRANSPORTATION

Federal Aviation Administration

14 CFR Parts 27 and 29

[Docket No. FAA-2001-9616; Amdt. Nos. 27-40 and 29-47]

Rotorcraft Airworthiness Standards

AGENCY: Federal Aviation Administration (FAA), DOT.

ACTION: Technical amendment.

SUMMARY: This document contains technical amendments to a final rule that was published in the Federal Register on December 20, 1976 (41 FR 55454). That final rule amended the airworthiness standards for normal and transport category rotorcraft under Parts 27 and 29 of title 14, Code of Federal Regulations (CFR). The particular sections being amended relate to limit pilot forces and torques.

EFFECTIVE DATE: May 9, 2001.

FOR FURTHER INFORMATION CONTACT: Jim Grigg, telephone (817) 222-5490.

SUPPLEMENTARY INFORMATION:

Background

The final regulations that are the subject of these amendments were originally codified as:

• Civil Air Regulations (CAR) 7.225 and 7.226, recodified as 14 CFR 29.397, effective February 1, 1965, and later amended by Amendment 29-12, effective February 1, 1977; and

• CAR 6.225 and 6.226, recodified as 14 CFR 27.397, effective February 1, 1965, and later amended by Amendment 27-11, effective February 1, 1977, was intended to establish a maximum pilot force for twist controls of 80R inch-pounds.

However, as published, the final regulations contain an error that has long been recognized by the FAA and industry as being misleading and in need of clarification. When these regulations were previously published, we inadvertently omitted the word “inch” in the phrase “Twist controls, 80R inch-pounds”. These technical amendments clarify that the appropriate measurement is to be in “inch-pounds” not “pounds”.

List of Subjects in 14 CFR Parts 27 and 29

Aircraft, Aviation safety, Rotorcraft.

The Amendment

Accordingly, the Federal Aviation Administration amends 14 CFR parts 27 and 29 by making the following technical amendments:

PART 27—AIRWORTHINESS STANDARDS: NORMAL CATEGORY ROTORCRAFT

1. The authority citation for part 27 continues to read as follows:

Authority: 49 U.S.C. 106(g), 40113, 44701-44702, 44704.

2. § 27.397(b)(2) is amended by revising “80R pounds” to state “80R inch-pounds”.

PART 29—AIRWORTHINESS STANDARDS: TRANSPORT CATEGORY ROTORCRAFT

3. The authority citation for part 29 continues to read as follows:

Authority: 49 U.S.C. 106(g), 40113, 44701-44702, 44704.

4. § 29.397(b)(2) is amended by revising “80R pounds” to state “80R inch-pounds”.

Issued in Washington, DC, on May 3, 2001.
Donald P. Byrne,
Assistant Chief Counsel for Regulations.

[FR Doc. 01-11717 Filed 5-8-01; 8:45 am]

BILLING CODE 4910-13-M